DEPARTMENT OF TRANSPORTATION

National Highway Traffic Safety Administration

[Docket No. NHTSA 2003-15819; Notice 1]

Mitsubishi Motors North America, Inc., Receipt of Application for Decision of Inconsequential Noncompliance

Mitsubishi Motors North America, Inc. (MMNA) has determined that approximately 25,832 vehicles equipped with new pneumatic tires failed to comply with certain provisions mandated by Federal Motor Vehicle Safety Standard (FMVSS) No. 110, “Tire selection and rims”, regarding the vehicle normal load.

Pursuant to 49 U.S.C. 30118(d) and 30120(h), MMNA has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

Mitsubishi Motors Sales Caribbean, Inc., and DaimlerChrysler Corporation (at that time, Chrysler Corporation) imported and distributed approximately 25,832 vehicles (Mitsubishi Mirages and Eagle Summit passenger vans), during the periods of September 22, 1994, through May 9, 1996. FMVSS No. 110, “Tire selection and rims,” S4.2.2, mandates that the vehicle's normal load on each tire must not exceed the test load for the high speed performance test as specified in FMVSS No. 109, “New pneumatic tires,” paragraph S5.5. Paragraph S5.5.1 requires that the tire and wheel assembly be pressed against the test wheel, with a load of 88 percent of the tire's maximum load rating as marked on the tire sidewall.

As requested by MMNA, the affected vehicles, when loaded at the vehicle normal load slightly, exceed 88 percent of the maximum load rating. Specifically, the vehicle's normal load exceeds 88 percent of the maximum load rating by approximately 12kg, which means that the normal load is 89.5 percent of the maximum load rating. The noncompliance resulted from a running change during the 1995 model year that added a three-speed automatic transmission that increased the curb weight by 15kg. FMVSS No. 110 requires that the vehicle's normal load on each tire must not be greater than the high speed performance test load, which is 88 percent of the maximum load rating as stated on the tire sidewall. Compliance with FMVSS No. 110, S4.2.2, was calculated, by MMNA, based on the original curb weight (without the three-speed transmission) at the vehicle normal load.

MMNA does not believe that the foregoing noncompliance will adversely impact motor vehicle safety. MMNA argues that the tires exceed the FMVSS No. 109 high-speed performance requirements “even at loading conditions significantly above the maximum normal vehicle load.''

Interested persons are invited to submit written views, arguments, and data on the application described above. Comments must refer to the docket and notice number cited at the beginning of this notice and be submitted by any of the following methods: Mail: Docket Management Facility; U.S. Department of Transportation, Nassif Building, Room PL-401, 400 Seventh Street SW., Washington, DC 20590-001. Hand Delivery: Room PL-401 on the plaza level of the Nassif Building, 400 Seventh Street SW., Washington, DC. Fax: 1-202-493-2251, or submit to Federal eRulemaking Portal: Go to http://www.regulations.gov. Follow the online instructions for submitting comments.

It is requested, but not required, that two copies of the comments be provided. The Docket Section is open on weekdays from 10 am to 5 pm except Federal Holidays. Comments may be submitted electronically by logging onto the Docket Management System website at http://dms.dot.gov. Click on “Help” to obtain instructions for filing the document electronically.

All comments received before the close of business on the closing date indicated below will be considered. The application and supporting materials, and all comments received after the closing date, will also be filed and will be considered to the extent possible. When the application is granted or denied, the notice will be published in the Federal Register pursuant to the authority indicated below.

Comment closing date: October 15, 2003.

Authority: 49 U.S.C. 301118, 301120; delegations of authority at 49 CFR 1.50 and 501.8.

Issued on: September 8, 2003.
Stephen R. Kratzke,
Associate Administrator for Rulemaking.

[FR Doc. 03-23415 Filed 9-12-03; 8:45 am]

BILLING CODE 4910-59-P